DEPARTMENT OF AGRICULTURE

Animal and Plant Health Inspection Service

[Docket No. APHIS-2016-0045]

Environmental Impact Statement; Rangeland Grasshopper and Mormon Cricket Suppression Program: Record of Decision

AGENCY: Animal and Plant Health Inspection Service, USDA.

ACTION: Notice.

SUMMARY: This notice advises the public of the Animal and Plant Health Inspection Service's record of decision for the final environmental impact statement titled Record of Decision for the Programmatic Environmental Impact Statement for the Rangeland Grasshopper and Mormon Cricket Suppression Program.

DATES: An official of the Animal and Plant Health Inspection Service-Plant Protection and Quarantine signed the record of decision on December 2, 2019.

ADDRESSES: You may read the final environmental impact statement and record of decision in our reading room. The reading room is located in room 1141 of the USDA South Building, 14th Street and Independence Avenue SW, Washington, DC. Normal reading room hours are 8 a.m. to 4:30 p.m., Monday through Friday, except holidays. To be sure someone is there to help you, please call (202) 799-7039 before coming. The record of decision, final environmental impact statement, and supporting information may also be viewed at http://www.regulations.gov/#!docketDetail;D=APHIS-2016-0045. To obtain copies of the documents, contact the person listed under FOR FURTHER INFORMATION CONTACT.

FOR FURTHER INFORMATION CONTACT: For questions related to the Grasshopper and Mormon Cricket Suppression Program, contact Mr. William D. Wesela, APHIS National Grasshopper and Mormon Cricket Program Manager, PPQ, APHIS, USDA, 4700 River Road Unit 26, Riverdale, MD 20737; William.D.Wesela@usda.gov, (301) 851-2229. For questions related to the environmental impact statement, contact Dr. Jim Warren, Environmental Protection Specialist, Environmental and Risk Analysis Services, PPD, APHIS, 4700 River Road Unit 149, Riverdale, MD 20737; Jim.E.Warren@usda.gov; (202) 316-3216.

SUPPLEMENTARY INFORMATION: On September 1, 2016, we published in the Federal Register (81 FR 60338-60339) a notice of intent to prepare an environmental impact statement (EIS) ¹ to analyze the effects of a program to suppress populations of grasshoppers and Mormon cricket from 17 States in the western United States. That notice identified three alternatives for examination in the EIS and requested public comments to help delineate the scope of the issues and alternatives to be analyzed. The public comment period for scoping ended on October 17, 2016. We received 12 comments during the 45-day scoping period and considered these comments in the drafting of the EIS.

¹ The notices, comments, draft and final EIS, record of decision, and supporting documents can be viewed at http://www.regulations.gov/#!docketDetail;D=APHIS-2016-0045.

On January 30, 2019, the Animal and Plant Health Inspection Service (APHIS) made the draft EIS available and invited public comment on it through March 18, 2019. We received 19 comments. Our responses to the comments are contained in an appendix to the final EIS. On November 1, 2019, the Environmental Protection Agency published a notice of availability of the final EIS in the Federal Register (84 FR 58713). The review period for the final EIS ended on December 2, 2019.

The National Environmental Policy Act (NEPA, as amended (42 U.S.C. 4321 et seq.)) implementing regulations in 40 CFR 1506.10 require a minimum 30-day waiting period between the time a final EIS is published and the time an agency makes a decision on an action covered by the EIS. We did not receive any comments during the 30-day waiting period. APHIS has reviewed the final EIS and concluded that it fully analyzes the issues covered by the draft EIS and addresses the comments and suggestions submitted by commenters. This notice advises the public that the waiting period has elapsed, and APHIS has issued a record of decision (ROD) to implement the preferred alternative described in the final EIS.

The ROD has been prepared in accordance with: (1) NEPA; (2) regulations of the Council on Environmental Quality for implementing the procedural provisions of NEPA (40 CFR parts 1500-1508); (3) USDA regulations implementing NEPA (7 CFR part 1b); and (4) APHIS' NEPA Implementing Procedures (7 CFR part 372).

Done in Washington, DC, this 24th day of January 2020.
Kevin Shea,
Administrator, Animal and Plant Health Inspection Service.

[FR Doc. 2020-01835 Filed 1-30-20; 8:45 am]

BILLING CODE 3410-34-P